DEPARTMENT OF THE INTERIOR

NATIONAL PARK SERVICE

[NPS-WASO-NRSS-EQD-SSB-17651; PPWONRADE3, PPMRSNR1Y.NM000]

Proposed Information Collection; Comment Request: A Survey of Direct Recreational Uses Along the Colorado River

AGENCY: National Park Service, Interior.

ACTION: Notice and request for comments.

SUMMARY: We (National Park Service) are asking the Office of Management and Budget (OMB) to approve the Information Collection Request (ICR) described below. The National Park Service (NPS) is requesting approval of a new collection that will be collected in collaboration with the U.S. Geological Survey's Grand Canyon Monitoring and Research Center and used to provide information concerning the direct recreational uses along the Colorado River—specifically the stretch between the Glen Canyon Dam and Lee's Ferry. To comply with the Paperwork Reduction Act of 1995 and as a part of our continuing efforts to reduce paperwork and respondent burden, we invite the general public and other Federal agencies to comment on this ICR.

DATES: To ensure that your comments on this ICR are considered, OMB must receive them on or before March 19, 2015.

ADDRESSES: Please submit written comments on this information collection directly to the Office of Management and Budget (OMB) Office of Information and Regulatory Affairs, Attention: Desk Officer for the Department of the Interior, to OIRA_Submission@omb.eop.gov (email) or 202-395-5806 (fax); and identify your submission as 1024-DREC. Please also send a copy of your comments to Phadrea Ponds, Information Collection Coordinator, National Park Service, 1201 Oakridge Drive, Fort Collins, CO 80525 (mail); or phadrea_ponds@nps.gov (email). Please reference Information Collection 1024-DREC in the subject line.

FOR FURTHER INFORMATION CONTACT: Phadrea Ponds, Information Collection Review Coordinator, National Park Service, 1201 Oakridge Drive, Fort Collins, CO 80525 (mail); or phadrea_ponds@nps.gov (email). Please reference Information Collection 1024-DREC in the subject line. You may also access this ICR at www.reginfo.gov.

I. Abstract

We wish to conduct this study to understand the social and economic impacts of water levels on recreation uses of the Colorado River, specifically the areas from Glen Canyon Dam to the head of Lake Mead. We are requesting approval to administer two versions of the key valuation questions (CV and conjoint). The rationale for administering two surveys containing CV and conjoint questions is because the survey design recognizes that the state of the art methods used in non-market valuation have substantially advanced since these user groups were surveyed on these issues more than 25 years ago. A survey will be mailed to a sample of whitewater floaters and anglers to collect information concerning (1) trip/visit characteristics, (2) activities and (3) opinions on river management. This information collection will be used to provide empirical data that will help NPS managers and planners understand the impacts of direct recreational uses along the Colorado River.

II. Data

OMB Control Number: 1024-DREC.

Title: A Survey of Direct Recreational Uses Along The Colorado River.

Type of Request: NEW.

Affected Public: General public; individual households.

Respondent Obligation: Voluntary.

Frequency of Collection: One time.

Estimated Number of Annual Responses: 2,340.

Estimated Annual Burden Hours: 780 hours.

Estimated Annual Reporting and Recordkeeping “Non-Hour Cost”: None.

III. Request for Comments

On August 26, 2014, we published a Federal Register notice (79 FR 50940) announcing that we would submit this ICR to OMB for approval. Public comments were solicited for 60 days ending October 27, 2014. We received one comment in response to that notice. The commenter suggested that this study is unnecessary because the Socio-Economic Ad Hoc Group (SEAHG) is in the process of developing a study to address the informational needs related to the Glen Canyon Dam operations and the Colorado River in the Grand Canyon. We contend that this study does not cause a conflict because the survey does not duplicate any ongoing or parallel effort but rather is intended to provide information that will be used to update a more than 25 year old study of the same resources.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

A Federal agency may not conduct or sponsor and a person is not required to respond to a collection of information unless it displays a currently valid OMB control number. Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: February 9, 2015.
Madonna L. Baucum,
Information Collection Clearance Officer, National Park Service.

[FR Doc. 2015-03096 Filed 2-13-15; 8:45 am]

BILLING CODE 4310-EH-P